DEPARTMENT OF TRANSPORTATION

Federal Highway Administration

Notice of Final Federal Agency Action on Proposed Highway in Georgia, State Route 400 Express Lanes, Fulton and Forsyth Counties, Georgia (Atlanta Metropolitan Area)

AGENCY: Federal Highway Administration (FHWA), Department of Transportation (DOT).

ACTION: Notice of limitations on claims for judicial review of action by FHWA, the United States Army Corps of Engineers (USACE), and the National Park Service (NPS).

SUMMARY: This notice announces actions taken by FHWA and other Federal agencies that are final. The actions relate to a proposed highway project, the State Route (SR) 400 Express Lanes beginning from the North Springs Metropolitan Atlanta Rapid Transit Authority (MARTA) station in Fulton County and ending at 0.9 mile north of McFarland Parkway in Forsyth County, Georgia. The approximate length of the proposed project is approximately 16 miles. Those actions grant licenses, permits, and approvals for the project.

DATES: By this notice, the FHWA is advising the public of the final agency actions subject to 23 U.S.C. 139(l)(1). A claim seeking judicial review of the Federal agency actions on the highway project will be barred unless the claim is filed on or before September 2, 2022. If the Federal law that authorizes judicial review of a claim provides a time period of less than 150 days for filing such claim, then that shorter time period still applies.

FOR FURTHER INFORMATION CONTACT: For FHWA: Mr. Daniel T. Hinton, Acting Division Administrator, Georgia Division, Federal Highway Administration, 61 Forsyth Street, Suite 17T100, Atlanta, Georgia 30303; FHWA's normal business hours are 8:00 a.m. to 5:00 p.m. (eastern time) Monday through Friday, 404-562-3630; email: Daniel.Hinton@dot.gov. For United States Army Corps of Engineers (USACE): Mr. Edward B. Johnson, Jr., Chief, Management Branch, 4751 Best Road, Suite 140, College Park, Georgia 30337, email: Edward.B.Johnson@usace.army.mil. USACE's normal business hours are 8:00 a.m. to 5:00 p.m. (Eastern time) Monday through Friday. For Georgia Department of Transportation (GDOT): Mr. Russell McMurray, Commissioner, Georgia Department of Transportation, 600 West Peachtree Street, 22nd Floor, Atlanta, Georgia 30308, 8:00 a.m. to 5:00 p.m. (eastern time) Monday through Friday, Telephone: (404) 631-1990, email: RMcMurray@dot.ga.gov. For National Park Service (NPS): Ms. Ann Honious, Superintendent, Chattahoochee River Recreation Area, 1978 Island Ford Parkway, Sandy Springs, Georgia 30350, 9:00 a.m. to 5:00 p.m. (eastern time) Monday through Friday, Telephone: (678) 538-1211, email: ann_honious@nps.gov.

SUPPLEMENTARY INFORMATION: Notice is hereby given that the FHWA and other federal agencies have taken final actions subject to 23 U.S.C. 139(l)1 by issuing licenses and approvals for the following highway project in the State of Georgia: The SR 400 Express Lanes located in metropolitan Atlanta, Georgia. The Selected Alternative will add two (2) priced Express Lanes in each direction along State Route 400 from North Springs MARTA station (currently Exit 5C) to McGinnis Ferry Road and one (1) priced Express Lane in each direction from McGinnis Ferry Road to approximately 0.9 mile north of McFarland Parkway (currently Exit 12) in Forsyth County. The approximate length of the proposed construction is approximately 16 miles. The facility will be tolled by electronic toll lane (ETL). The purpose of the project is listed below:

• Provide a transportation alternative that offers reliable travel times for drivers and transit users;

• Improve connections between regional destinations through priced, additional lanes that integrate with the greater metro Atlanta express lanes network;

• Accelerate project delivery.

The actions by the Federal Agencies, and the laws under which such actions were taken, are described in the Environmental Assessment (EA) for the project, approved on July 29, 2020, and the Finding of No Significant Impact (FONSI) for the SR 400 Express Lanes, approved on February 5, 2021. The FONSI and other project records are available by contacting FHWA or the Georgia Department of Transportation at the addresses listed in the For Further Information Contact section of this notice.

The actions by the Federal Agencies and the laws under which such actions were taken are described in the USACE Individual Permit for the SR 400 Express Lanes project, authorized on February 15, 2022. The Public Notice for the Individual Permit is available by contacting FHWA or the Georgia Department of Transportation at the addresses listed above. The USACE Public Notice for the Individual Permit can be reviewed in the following manner:

(1) https://www.sas.usace.army.mil/Missions/Regulatory/Public-Notices/?Page=2 or [SAS-2018-01018-FultonandForsyth (IP-NML) > Savannah District > Public Notices (army.mil)]; and

(2) If you are unable to access the Public Notice above, please make a request by mail to: U.S. Army Corps of Engineers, ATTN: Mr. Edward B. Johnson, Jr., Chief, Management Branch, 4751 Best Road, Suite 140, College Park, Georgia 30337.

The actions by the Federal Agencies and the laws under which such actions were taken are described in the National Park Service (NPS) Decision Document for the SR 400 Express Lanes project, approved on June 24, 2021. The NPS Decision Document can be reviewed and downloaded from the project website in two ways:

(1) At https://0001757-gdot.hub.arcgis.com/ and click on Environmental Assessment (EA) and FONSI; and

(2) Electronic versions of the NPS Decision Document have been sent to the following local libraries in the vicinity of the SR 400 corridor with a request to make the digital document available to patrons, including:

a. Fulton County Library at the Sandy Springs Branch (395 Mount Vernon Hwy. NE, Sandy Springs, GA 30328),

b. Fulton County Library at the Roswell Branch (115 Norcross St. Roswell, GA 30075),

c. Fulton County Library at the East Roswell Branch (2301 Holcomb Bridge Rd., Roswell, GA 30076),

d. Fulton County Library at the Alpharetta Branch (10 Park Plaza, Alpharetta, GA 30009),

e. Fulton County Library at the Milton Branch (855 Mayfield Rd., Milton, GA 30009),

f. DeKalb Public Library at the Dunwoody Branch (5339 Chamblee Dunwoody Rd., Dunwoody, GA 30338), and

g. Forsyth County Public Library at the Sharon Forks Branch (2820 Old Atlanta Rd., Cumming, GA 30041).

This notice applies to all Federal Agency final actions taken after the issuance date of the FHWA Federal Register notice described in 86 FR 9421 (Feb. 12, 2021). See https://www.govinfo.gov/content/pkg/FR-2021-02-12/pdf/2021-02803.pdf. The laws under which actions were taken include, but are not limited to:

1. Wetlands and Water Resources: Clean Water Act, (section 404, section 401, section 319) [33 U.S.C. 1251-1377]; 33 CFR 208.10; Safe Drinking Water Act [42 U.S.C. 300(f)-300(j-26)]; TEA-21 Wetlands Mitigation [23 U.S.C. 103(b)(6)(m), 133(b)(11)]; Flood Disaster Protection Act [42 U.S.C. 4001-4128]; Wild and Scenic Rivers Act [16 U.S.C. 1271-1287]; Emergency Wetlands Resources Act [16 U.S.C. 3921, 3931]; Rivers and Harbors Act of 1899 [33 U.S.C. 401-406].

2. Executive Orders: E.O. 11990, Protection of Wetlands; E.O. 11988 Floodplain Management; Nothing in this notice creates a cause of action under these E.O.s.

(Catalog of Federal Domestic Assistance Program Number 20.205, Highway Planning and Construction. The regulations implementing Executive Order 12372 regarding intergovernmental consultation on Federal programs and activities apply to this program.)

Authority: 23 U.S.C. 139(l)(1).

Daniel Thomas Hinton,
Acting Division Administrator, Atlanta, Georgia.

[FR Doc. 2022-07009 Filed 4-4-22; 8:45 am]

BILLING CODE 4910-22-P